DEPARTMENT OF TRANSPORTATION

Federal Aviation Administration

14 CFR Part 39

[Docket No. FAA-2016-7269; Directorate Identifier 2015-NM-198-AD; Amendment 39-18862; AD 2017-08-13

RIN 2120-AA64

Airworthiness Directives; Airbus Airplanes

AGENCY: Federal Aviation Administration (FAA), Department of Transportation (DOT).

ACTION: Final rule.

SUMMARY: We are adopting a new airworthiness directive (AD) for certain Airbus Model A300 series airplanes; Model A300 B4-600, B4-600R, and F4-600R series airplanes, and Model A300 C4-605R Variant F airplanes (collectively called Model A300-600 series airplanes); and Model A310 series airplanes. This AD was prompted by a report indicating that during inspections to detect corrosion of the bulk cargo doors, several cracks were discovered. This AD requires inspections of the bulk cargo door frame to identify any structural repairs and cracking, and corrective actions if necessary. We are issuing this AD to address the unsafe condition on these products.

DATES: This AD is effective May 30, 2017.

The Director of the Federal Register approved the incorporation by reference of a certain publication listed in this AD as of May 30, 2017.

ADDRESSES: For service information identified in this final rule, contact Airbus SAS, Airworthiness Office—EAW, 1 Rond Point Maurice Bellonte, 31707 Blagnac Cedex, France; telephone: +33 5 61 93 36 96; fax: +33 5 61 93 44 51; email: account.airworth-eas@airbus.com; Internet: http://www.airbus.com. You may view this referenced service information at the FAA, Transport Airplane Directorate, 1601 Lind Avenue SW., Renton, WA. For information on the availability of this material at the FAA, call 425-227-1221. It is also available on the Internet at http://www.regulations.gov by searching for and locating Docket No. FAA-2016-7269.

Examining the AD Docket

You may examine the AD docket on the Internet at http://www.regulations.gov by searching for and locating Docket No. FAA-2016-7269; or in person at the Docket Management Facility between 9 a.m. and 5 p.m., Monday through Friday, except Federal holidays. The AD docket contains this AD, the regulatory evaluation, any comments received, and other information. The street address for the Docket Office (telephone: 800-647-5527) is Docket Management Facility, U.S. Department of Transportation, Docket Operations, M-30, West Building Ground Floor, Room W12-140, 1200 New Jersey Avenue SE., Washington, DC 20590.

FOR FURTHER INFORMATION CONTACT: Dan Rodina, Aerospace Engineer, International Branch, ANM-116, Transport Airplane Directorate, FAA, 1601 Lind Avenue SW., Renton, WA 98057-3356; telephone: 425-227-2125; fax: 425-227-1149.

SUPPLEMENTARY INFORMATION:

Discussion

We issued a notice of proposed rulemaking (NPRM) to amend 14 CFR part 39 by adding an AD that would apply to certain Airbus Model A300 series airplanes; Model A300 B4-600, B4-600R, and F4-600R series airplanes, and Model A300 C4-605R Variant F airplanes (collectively called Model A300-600 series airplanes); and Model A310 series airplanes. The NPRM published in the Federal Register on June 28, 2016 (81 FR 41892). The NPRM was prompted by a report indicating that during inspections to detect corrosion of the bulk cargo doors, several cracks were discovered. The NPRM proposed to require a general visual inspection of the bulk cargo door frame to identify any structural repairs, a detailed visual inspection of the frame at the repaired area for any cracking if necessary, and corrective actions if necessary. We are issuing this AD to detect and correct cracking of the bulk cargo doors; such cracking could result in rapid airplane decompression or possible loss of the bulk cargo door.

The European Aviation Safety Agency (EASA), which is the Technical Agent for the Member States of the European Union, has issued EASA AD 2015-0238, dated December 18, 2015 (referred to after this as the Mandatory Continuing Airworthiness Information, or “the MCAI”), to correct an unsafe condition for certain Airbus Model A300 series airplanes; Model A300 B4-600, B4-600R, and F4-600R series airplanes, and Model A300 C4-605R Variant F airplanes (collectively called Model A300-600 series airplanes); and Model A310 series airplanes. The MCAI states:

During inspections to detect corrosion on the Bulk Cargo Doors of Airbus A300 family aeroplanes, several cracks were discovered. Investigations revealed that a set of SRM [structural repair manual] repair solutions was defined in 1993, and was classified as permanent and without limitation. As of 2011, this set of repair solutions was revised and classified permanent, but with post-repair required actions.

This condition, if not detected and corrected, could result in rapid decompression events or even loss of the bulk cargo door.

As per Ageing Aircraft rules, it was determined that new inspections have to be completed on the Bulk Cargo Door Frames to detect potential fatigue damages on repaired structures or to perform a new repair scheme.

Based on the fact that several aeroplanes could potentially be flying with potential fatigue damages on repaired structures, Airbus was requested to issue Alert Operator Transmission (AOT) A53W010-15 to provide fleet-wide inspection instructions to address this condition.

For the reasons describes above, this [EASA] AD requires a one-time inspection of the bulk cargo door frame to determine whether a repair has been accomplished and, depending on findings, accomplishment of applicable corrective action(s).

The required actions in this AD include a detailed visual inspection of the bulk cargo door frame at the repaired area for any cracking, repair of cracks, and post-repair inspections of crack-free frames. This AD affects airplanes that have accumulated more than 14,600 total flight cycles as of the effective date of this AD. For airplanes that have accumulated 14,600 total flight cycles or fewer as of the effective date of this AD, no actions are required by this AD; however, we might consider further rulemaking for these airplanes.

You may examine the MCAI in the AD docket on the Internet at http://www.regulations.gov by searching for and locating Docket No. FAA-2016-7269.

Comments

We gave the public the opportunity to participate in developing this AD. The following presents the comments received on the NPRM and the FAA's response to each comment.

Request To Revise the Applicability

United Parcel Service (UPS) requested that we remove Model F4-622R airplanes from the applicability in paragraph (c) of the proposed AD. UPS stated that review of the applicable structural repair manual (SRM) sections identified in Airbus Alert Operators Transmission (AOT) A53W010-15, Revision 00, including Appendixes 1, 2, 3, and 4, dated December 15, 2015, revealed that Model A300 F4-622R airplanes with Airbus Modification 12046 embodied do not have the repair configuration in question available for use on these airplanes.

We agree with the commenter's request. Since the issuance of the NPRM, Airbus has revised the service information. Airbus AOT A53W010-15, Revision 01, including Appendixes 1, 2, 3, and 4, dated October 4, 2016, excludes Model A300 F4-622R and Model F4-605R airplanes in the post-Modification 12046 configuration. Therefore, we have redesignated paragraph (c) of the proposed AD as paragraph (c)(1) of this AD and added paragraph (c)(2) to this AD to exclude those airplanes.

Request To Add Certain Language to the NPRM

Richard Vernon requested that we revise paragraph (g) of the proposed AD to state that no further action is required for airplanes on which no structural repairs are identified.

We agree. We have determined that this change is consistent with the intent of the MCAI. Therefore, we have revised paragraph (g) of this AD to state that if no structural repairs are found or identified during the inspection required by paragraph (g) of this AD or the maintenance records review specified in paragraph (g) of this AD, no further action is required by this AD for that airplane.

Request To Expand and Reorganize the NPRM

UPS requested that we revise the NPRM to expand paragraph (g) and to reorganize paragraphs (h) through (i) of the proposed AD. UPS stated that the initial inspection and applicable corrective actions are spread over multiple paragraphs, including combining reporting requirements with the “no damage found” follow-on action.

We disagree with the commenter's request. While we understand the commenter's proposed reorganization of the paragraphs, our intent of the AD as written is to provide requirements that are consistent with the requirements of the MCAI. We have not changed this AD in this regard.

Request To Provide Guidance for Airplanes Repaired After December 2011

UPS commented that a detailed review of paragraphs (g) and (h) of the proposed AD indicates that there is no guidance for airplanes without repairs installed or repairs installed after December 2011 when the repair was classified in the SRM as “permanent with post-repair actions.” UPS stated that it is possible for an airplane with more than 14,600 total flight cycles to have an SRM repair identified in Airbus Alert Operators Transmission A53W010-15, Revision 00, dated December 15, 2015, References (1) through (8), and to be in compliance with the SRM post-repair actions and still have to re-validate the repair per the NPRM.

We infer that UPS is requesting that we provide guidance for airplanes repaired after December 2011 and airplanes with no repairs installed.

We agree to clarify. There is further action for airplanes repaired after December 2011, as required by paragraph (h) of this AD. SRM repairs and post-repair inspections do not allow for detecting cracks at doubler angles, whether the repairs were permanent or not or performed before or after December 2011. We have not revised this AD in this regard. For airplanes on which no structural repairs are identified during the inspection required by paragraph (g) of this AD or the records review specified in paragraph (g) of this AD, no further action is necessary. As stated previously, we have added language to paragraph (g) of this AD that states that if no structural repairs are found or identified, no further action is required by this AD for that airplane.

Request To Allow Maintenance Records Review in Lieu of Inspection

UPS provided restructured text for paragraph (g) of the proposed AD. The text includes an allowance to review the airplane maintenance records to identify the existence of any structural repairs of the bulk cargo door frame.

From this language provided by UPS, we infer that UPS was requesting that we include an option to allow a review of the airplane maintenance records to determine the existence of any structural repairs in lieu of the required general visual inspection of the bulk cargo door frame. We agree. We have revised paragraph (g) of this AD to add a statement that a review of airplane maintenance records is acceptable in lieu of the inspection specified in paragraph (g) of this AD as long as the existence of any structural repairs can be conclusively determined from that review. We have also revised paragraph (h) of this AD to refer to the maintenance records review.

Request for Credit for Previous Actions

FedEx requested that we allow credit for those airplanes which have been previously inspected in accordance with Airbus AOT A53W010-15, Revision 00, including Appendixes 1, 2, 3, and 4, dated December 15, 2015. FedEx stated that it has previously performed the required inspection on its airplanes as specified in Airbus AOT A53W010-15, Revision 00, including Appendixes 1, 2, 3, and 4, dated December 15, 2015. FedEx stated that Airbus indicated that airplanes having accumulated less than 14,600 total flight cycles will be covered later by another means of inspection. FedEx asserted that the NPRM will impose an additional burden based upon the results of the inspection on its airplanes, which were all negative.

We agree with the commenter's request for the reasons stated. We have revised this AD to provide credit for actions specified in paragraphs (g) and (h) of this AD if those actions were done before the effective date of this AD using Airbus AOT A53W010-15, Revision 00, including Appendixes 1, 2, 3, and 4, dated December 15, 2015.

Conclusion

We reviewed the relevant data, considered the comments received, and determined that air safety and the public interest require adopting this AD with the changes described previously and minor editorial changes. We have determined that these minor changes:

• Are consistent with the intent that was proposed in the NPRM for correcting the unsafe condition; and

• Do not add any additional burden upon the public than was already proposed in the NPRM.

We also determined that these changes will not increase the economic burden on any operator or increase the scope of this AD.

Related Service Information Under 1 CFR Part 51

We reviewed Airbus AOT A53W010-15, Revision 01, including Appendixes 1, 2, 3, and 4, dated October 4, 2016. The service information describes procedures for a general visual inspection of the bulk cargo door frame to identify any structural repairs, and a detailed visual inspection of the frame at the repaired area. The service information also provides procedures for contacting Airbus for repair instructions and reporting of inspection results. This service information is reasonably available because the interested parties have access to it through their normal course of business or by the means identified in the ADDRESSES section.

Costs of Compliance

We estimate that this AD affects 135 airplanes of U.S. registry. We estimate the following costs to comply with this AD:

Estimated Costs
Action | Labor cost | Parts cost | Cost per product | Cost on U.S. operators
Inspection | 1 work-hour × $85 per hour = $85 | $0 | $85 | $11,475

We have received no definitive data that would enable us to provide cost estimates for the on-condition actions specified in this AD, except for the cost of reporting, specified as follows:

On-Condition Costs
Action | Labor cost | Parts cost | Cost per product
Reporting | 1 work-hour × $85 per hour = $85 | $0 | $85

Paperwork Reduction Act

A federal agency may not conduct or sponsor, and a person is not required to respond to, nor shall a person be subject to penalty for failure to comply with a collection of information subject to the requirements of the Paperwork Reduction Act unless that collection of information displays a current valid OMB control number. The control number for the collection of information required by this AD is 2120-0056. The paperwork cost associated with this AD has been detailed in the Costs of Compliance section of this document and includes time for reviewing instructions, as well as completing and reviewing the collection of information. Therefore, all reporting associated with this AD is mandatory. Comments concerning the accuracy of this burden and suggestions for reducing the burden should be directed to the FAA at 800 Independence Ave. SW., Washington, DC 20591, ATTN: Information Collection Clearance Officer, AES-200.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2017-08-13: Amendment 39-18862; Docket No. FAA-2016-7269; Directorate Identifier 2015-NM-198-AD.

(a) Effective Date

This AD is effective May 30, 2017.

(b) Affected ADs

None.

(c) Applicability

(1) This AD applies to Airbus Model A300 B2-1A, B2-1C, B2K-3C, B2-203, B4-2C, B4-103, and B4-203 airplanes; Model A300 B4-601, B4-603, B4-620, B4-622, B4-605R, B4-622R, F4-605R, and F4-622R airplanes, and Model A300 C4-605R Variant F airplanes; and Model A310-203, -204, -221, -222, -304, -322, -324, and -325 airplanes, certificated in any category, that have accumulated more than 14,600 total flight cycles as of the effective date of this AD.

(2) Airbus Model A300 F4-605R and F4-622R airplanes in the post-Modification 12046 configuration are not affected by the requirements of this AD.

(d) Subject

Air Transport Association (ATA) of America Code 53, Fuselage.

(e) Reason

This AD was prompted by a report indicating that during inspections to detect corrosion of the bulk cargo doors, several cracks were discovered. We are issuing this AD to detect and correct cracking of the bulk cargo doors; such cracking could result in rapid airplane decompression or possible loss of the bulk cargo door.

(f) Compliance

Comply with this AD within the compliance times specified, unless already done.

(g) Inspection

Within 250 flight cycles or 6 months after the effective date of this AD, whichever occurs first: Do a general visual inspection of the bulk cargo door frame to identify the existence of any structural repairs, in accordance with the instructions of Airbus Alert Operators Transmission (AOT) A53W010-15, Revision 01, including Appendixes 1, 2, 3, and 4, dated October 4, 2016. A review of airplane maintenance records is acceptable in lieu of this inspection as long as the existence of any structural repairs can be conclusively determined from that review. If no structural repairs are found or identified during the inspection or maintenance records review, no further action is required by this AD for that airplane.

(h) Detailed Visual Inspection

If, during the general visual inspection required by paragraph (g) of this AD or the maintenance records review specified in paragraph (g) of this AD, any repair is found or identified on the bulk cargo door frame: Before further flight, do a detailed visual inspection for cracking of the frame at the repaired area, in accordance with the instructions of Airbus AOT A53W010-15, Revision 01, including Appendixes 1, 2, 3, and 4, dated October 4, 2016.

(i) Crack Repair

If any cracking is found during the detailed visual inspection required by paragraph (h) of this AD: Before further flight, repair using a method approved by the Manager, International Branch, ANM-116, Transport Airplane Directorate, FAA; or the European Aviation Safety Agency (EASA); or Airbus's EASA Design Organization Approval (DOA).

(j) Post-Repair Actions for Crack-Free Frames

If no cracking is found during the detailed visual inspection required by paragraph (h) of this AD: Do the actions in paragraphs (j)(1) and (j)(2) of this AD.

(1) At the applicable time specified in paragraph (j)(1)(i) or (j)(1)(ii) of this AD: Send a report of the inspection results to Airbus Service Bulletin Reporting Online Application on Airbus World (https://w3.airbus.com/).

(i) If the inspection was done on or after the effective date of this AD: Submit the report within 60 days after the inspection.

(ii) If the inspection was done before the effective date of this AD: Submit the report within 60 days after the effective date of this AD.

(2) Within 2,800 flight cycles after the detailed visual inspection required by paragraph (h) of this AD: Do applicable post-repair inspections and repairs, using a method approved by the Manager, International Branch, ANM-116, Transport Airplane Directorate, FAA; or EASA; or Airbus's EASA DOA.

(k) Credit for Previous Actions

This paragraph provides credit for the actions specified in paragraphs (g) and (h) of this AD, if those actions were performed before the effective date of this AD using Airbus AOT A53W010-15, Revision 00, including Appendixes 1, 2, 3, and 4, dated December 15, 2015.

(l) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Dan Rodina, Aerospace Engineer, International Branch, ANM-116, Transport Airplane Directorate, FAA, 1601 Lind Avenue SW., Renton, WA 98057-3356; telephone: 425-227-2125; fax: 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: For any requirement in this AD to obtain corrective actions from a manufacturer, the action must be accomplished using a method approved by the Manager, International Branch, ANM-116, Transport Airplane Directorate, FAA; or the EASA; or Airbus's EASA DOA. If approved by the DOA, the approval must include the DOA-authorized signature.

(m) Related Information

(1) Refer to Mandatory Continuing Airworthiness Information (MCAI) EASA AD 2015-0238, dated December 18, 2015, for related information. This MCAI may be found in the AD docket on the Internet at http://www.regulations.gov by searching for and locating Docket No. FAA-2016-7269.

(2) Service information identified in this AD that is not incorporated by reference is available at the addresses specified in paragraphs (n)(3) and (n)(4) of this AD.

(n) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Airbus Alert Operators Transmission A53W010-15, Revision 01, including Appendixes 1, 2, 3, and 4, dated October 4, 2016.

(ii) Reserved.

(3) For service information identified in this AD, contact Airbus SAS, Airworthiness Office—EAW, 1 Rond Point Maurice Bellonte, 31707 Blagnac Cedex, France; telephone +33 5 61 93 36 96; fax +33 5 61 93 44 51; email account.airworth-eas@airbus.com; Internet http://www.airbus.com.

(4) You may view this service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on April 13, 2017.
Dionne Palermo,
Acting Manager, Transport Airplane Directorate, Aircraft Certification Service.

[FR Doc. 2017-07981 Filed 4-21-17; 8:45 am]

BILLING CODE 4910-13-P